DEPARTMENT OF HOMELAND SECURITY

Coast Guard

33 CFR Part 165

[Docket No. USCG 2010-0367]

Safety Zone; San Francisco Chronicle Fireworks Display, San Francisco, CA

AGENCY: Coast Guard, DHS.

ACTION: Notice of enforcement of regulation.

SUMMARY: The Coast Guard will enforce the Independence Day Celebration for the City of San Francisco Fireworks safety zone from 11 a.m. through 10 p.m. on July 4, 2010. The fireworks will be fired simultaneously from two separate locations. This action is necessary to control vessel traffic and to ensure the safety of event participants and spectators. During the enforcement period, unauthorized persons or vessels are prohibited from entering into, transiting through, or anchoring in the safety zone, unless authorized by the Patrol Commander (PATCOM).

DATES: The regulations in 33 CFR 165.1191 will be enforced from 11 a.m. through 10 p.m. on July 4, 2010.

FOR FURTHER INFORMATION CONTACT: If you have questions on this notice, call or e-mail Lieutenant Simone Mausz, U.S. Coast Guard, Waterways Safety Division; telephone 415-399-7443, e-mail D11-PF-MarineEvents@uscg.mil.

SUPPLEMENTARY INFORMATION: The Coast Guard will enforce the Independence Day Celebration for the City of San Francisco Fireworks safety zone from 11 a.m. through 10 p.m. on July 4, 2010. The fireworks will be fired simultaneously from two separate locations: Location 1 will be held 1,000 feet from Pier 39 in position 37°48.710′ N and 122°24.464′ W and Location 2 will be fired from the Municipal Pier in Aquatic Park in position 37°48.611′ N and 122°25.532′ W on July 4, 2010.

For Location 1, while the barge is being towed to the display location, and until fifteen minutes before the start of the fireworks display, the safety zone applies to the navigable waters around and under the fireworks barge within a radius of 100 feet. Fifteen minutes before and during the fireworks display, the area to which this safety zone applies to will increase in size to encompass the navigable waters around and under the fireworks barge within a radius of 1,000 feet. Loading of the pyrotechnics onto the fireworks barge is scheduled to commence at 11 a.m. on July 4, 2010, and will take place at Pier 50 in San Francisco. Towing of the barge from Pier 50 to the display location is scheduled to take place on July 4, 2010 at 8 p.m. During the fireworks display, scheduled to start at approximately 9:30 p.m., the fireworks barge will be located approximately 1,000 feet off of Pier 39 in position 37°48.710′ N, 122°24.464′ W (NAD 83). This safety zone will be enforced from 11 a.m. to 10:00 p.m. on July 4, 2010.

For Location 2, the fireworks will be launched from the Municipal Pier in position 37°48.611′ N, 122°25.532′ W (NAD 83). The safety zone will apply to the navigable waters around and under the fireworks site within a radius of 500 feet. The fireworks display is scheduled to launch at 9:30 p.m. and will last approximately twenty five minutes. This safety zone will be enforced from 9 p.m. to 10 p.m. on July 4, 2010.

Under the provisions of 33 CFR 165.1191, unauthorized persons or vessels are prohibited from entering into, transiting through, or anchoring in the safety zone during all applicable effective dates and times, unless authorized to do so by the PATCOM. Additionally, each person who receives notice of a lawful order or direction issued by an official patrol vessel shall obey the order of direction. The PATCOM is empowered to forbid entry into and control the regulated area. The PATCOM shall be designated by the Commander, Coast Guard Sector San Francisco. The PATCOM may, upon request, allow the transit of commercial vessels through regulated areas when it is safe to do so.

This notice is issued under authority of 33 CFR 165.1191 and 5 U.S.C. 552(a). In addition to this notice in the Federal Register, the Coast Guard will provide the maritime community with extensive advance notification of this enforcement period via the Local Notice to Mariners. If the Captain of the Port determines that the regulated area need not be enforced for the full duration stated in this notice, he or she may use a Broadcast Notice to Mariners to grant general permission to enter the regulated area.

Dated: June 11, 2010.
P. M. Gugg,
Captain, U.S. Coast Guard, Captain of the Port San Francisco.

[FR Doc. 2010-15153 Filed 6-22-10; 8:45 am]

BILLING CODE 9110-04-P